DEPARTMENT OF COMMERCE

INTERNATIONAL TRADE ADMINISTRATION

[A-570-822]

Certain Helical Spring Lock Washers From the People's Republic of China: Final Results of Antidumping Duty Administrative Review

AGENCY: Import Administration, International Trade Administration, Department of Commerce.

SUMMARY: On November 9, 2009, the Department of Commerce (the “Department”) published the preliminary results of the administrative review of the antidumping duty order on certain helical spring lock washers from the People's Republic of China (“PRC”), covering the period October 1, 2007, through September 30, 2008. See Certain Helical Spring Lock Washers From the People's Republic of China: Preliminary Results of Antidumping Duty Administrative Review, 74 FR 57653 (November 9, 2009) (“Preliminary Results”). We gave the interested parties an opportunity to comment on the Preliminary Results. After reviewing the interested parties' comments, we made changes to our calculations for the final results of the review. The final dumping margin for this review is listed in the “Final Results of the Review” section below.

EFFECTIVE DATE: May 27, 2010.

FOR FURTHER INFORMATION CONTACT: David Layton or Austin Redington, AD/CVD Operations, Office 1, Import Administration, International Trade Administration, U.S. Department of Commerce, 14th Street and Constitution Avenue, N.W., Washington, DC 20230; telephone (202) 482-0371 or (202) 482-1664, respectively.

SUPPLEMENTARY INFORMATION:

Background

The Department published the Preliminary Results on November 9, 2009. On November 12, 2009, the Department sent a supplemental questionnaire to mandatory respondent Hangzhou Spring Washer Co., Ltd. (“HSW”) (also known as Zhejiang Wanxin Group Co., Ltd.), and received a response from HSW on November 19, 2009.

HSW and the petitioner, Shakeproof Assembly Components, a Division of Illinois Tool Works, Inc. (“Shakeproof” or “Petitioner”), submitted surrogate value comments on December 28, 2009, in addition to those surrogate value comments submitted before the Preliminary Results.

The final results of this administrative review were originally due no later than March 9, 2010. As explained in the memorandum from Ron Lorentzen, Deputy Assistant Secretary for Import Administration, the Department has exercised its discretion to toll deadlines for the duration of the closure of the Federal Government from February 5, 2010, through February 12, 2010. Thus, all deadlines in this segment of the proceeding have been extended by seven days. The revised deadline for the final results of this review was consequently extended to March 16, 2010. See Memorandum to the Record from Ronald Lorentzen, Deputy Assistant Secretary (“DAS”) for Import Administration, regarding “Tolling of Administrative Deadlines As a Result of the Government Closure During the Recent Snowstorm,” dated February 12, 2010.

On March 1, 2010, the Department published in the Federal Register an extension of the time limit for the completion of the final results of this review until no later than May 17, 2010, in accordance with section 751(a)(3)(A) of the Tariff Act of 1930, as amended (“the Act”), and 19 CFR 351.213(h)(2). See Certain Helical Spring Lock Washers from the People's Republic of China: Extension of Time Limit for the Final Results of the 2007-2008 Antidumping Duty Administrative Review, 75 FR 9159 (March 1, 2010).

Petitioner and HSW submitted case briefs on January 6, 2010, and rebuttal briefs on January 11, 2010. None of the parties requested a hearing.

Scope of the Order

The products covered by the order are helical spring lock washers of carbon steel, of carbon alloy steel, or of stainless steel, heat-treated or non-heat-treated, plated or non-plated, with ends that are off-line. Helical spring lock washers are designed to: (1) function as a spring to compensate for developed looseness between the component parts of a fastened assembly; (2) distribute the load over a larger area for screws or bolts; and (3) provide a hardened bearing surface. The scope does not include internal or external tooth washers, nor does it include spring lock washers made of other metals, such as copper.

Lock washers subject to the order are currently classifiable under subheading 7318.21.0030 of the Harmonized Tariff Schedule of the United States (“HTSUS”). Although the HTSUS subheading is provided for convenience and customs purposes, the written description of the scope of this proceeding is dispositive.

Analysis of Comments Received

All issues raised in the case briefs are addressed in the “Issues and Decision Memorandum for the 2007-2008 Administrative Review of Certain Helical Spring Lock Washers From the People's Republic of China” (“Issues and Decision Memorandum”), which is dated concurrently with and hereby adopted by this notice. A list of the issues which parties raised and to which we responded in the Issues and Decision Memorandum is attached to this notice as an Appendix. The Issues and Decision Memorandum is a public document which is on file in the Central Records Unit (“CRU”) in room 1117 in the main Department building, and is accessible on the web at http://www.ia.ita.doc.gov/frn. The paper copy and electronic version of the memorandum are identical in content.

Changes Since the Preliminary Results

Based on our analysis of the comments received, we made the following changes in calculating dumping margins: (1) we revised our calculation of the surrogate financial ratios and are now including two additional Indian companies; (2) we valued HSW's factors for barium carbonate, nitric acid, and zinc chloride using prices from Chemical Weekly rather than the World Trade Atlas data used in the Preliminary Results; (3) for nitric acid and zinc chloride, we adjusted the average prices reported in Chemical Weekly to account for the differences between the concentration levels for the chemicals reported in Chemical Weekly and those used by HSW (the barium carbonate concentration level of sales reported in Chemical Weekly is identical to that reported by HSW); (4) we valued brokerage and handling costs using the source, the World Bank Group's Doing Business 2009, which reports average brokerage and handling costs in India based on a broad survey; and (5) we corrected an error in the calculations identified by HSW. See Comments 1, 5, 6 and 7 of the Issues and Decision Memorandum. For further details, see “Analysis for the Final Results of Antidumping Duty Administrative Review of Helical Spring Lock Washers from the People's Republic of China: Hangzhou Spring Washer Co. Ltd., dated May 17, 2010, on file in the CRU.

Final Results of the Review

We determine that the following margin exists for the period October 1, 2007, through September 30, 2008:

Manufacturer/exporter | Margin (percent)
Hangzhou Spring Washer Co. Ltd. (also known as Zhejiang Wanxin Group Co., Ltd.) | 6.96

Assessment Rates

The Department has determined, and U.S. Customs and Border Protection (“CBP”) shall assess, antidumping duties on all appropriate entries. The Department intends to issue assessment instructions to CBP 15 days after the date of publication of the final results of review. For HSW, we calculated customer-specific antidumping duty assessment amounts for subject merchandise based on the ratio of the total amount of antidumping duties calculated for the examined sales of subject merchandise to the total quantity of subject merchandise sold in these transactions. We calculated these per unit assessment amounts in this fashion, as opposed to calculating import-specific ad valorem rates in accordance with 19 CFR 351.212 (b)(1), because the entered values and importers of record for HSW's reported U.S. sales are not on the record. To determine whether the duty assessment rates are de minimis, in accordance with the requirement set forth in 19 CFR 351.106(c)(2), we calculated importer (or customer)-specific ad valorem ratios based on the estimated entered value. Where an importer-specific (or customer-specific) rate is de minimis (i.e., less than 0.50 percent), the Department will instruct CBP to liquidate that importer's (or customer's) entries of subject merchandise without regard to antidumping duties.

Cash Deposit Requirements

The following cash-deposit requirements will apply to all shipments of lock washers from the PRC entered, or withdrawn from warehouse, for consumption on or after the publication date of the final results of this administrative review, as provided by section 751(a)(1) of the Act: (1) the cash deposit rates for the reviewed company will be the rate listed above (except no cash deposit will be required if a company's weighted-average margin is de minimis, i.e., less than 0.5 percent); (2) for merchandise exported by manufacturers or exporters not covered in this review but covered in the original less-than-fair-value investigation or a previous review, the cash deposit rate will continue to be the most recent rate published in the final determination or final results for which the manufacturer or exporter received an individual rate; (3) if the exporter is not a firm covered in this review, a prior review, or the original investigation, but the manufacturer is, the cash deposit rate will be the rate established for the most recent period for the manufacturer of the merchandise; (4) for all other PRC exporters, the cash deposit rate will be the PRC-wide rate established in the final results of this review which is 128.63 percent; and (5) the cash-deposit rate for any non-PRC exporter of subject merchandise from the PRC will be the rate applicable to the PRC exporter that supplied that exporter. These deposit requirements, when imposed, shall remain in effect until further notice.

Notification to Interested Parties

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a final reminder to parties subject to the administrative protective order (“APO”) of their responsibility concerning the return or destruction of proprietary information disclosed under the APO in accordance with 19 CFR 351.305. Timely written notification of the return or destruction of APO materials or conversion to judicial protective order is hereby requested. Failure to comply with the regulations and the terms of an APO is a sanctionable violation.

This notice of final results is issued and published in accordance with sections 751(a)(1) and 777(i)(1) of the Act.

Dated: May 17, 2010.
Paul Piquado,
Deputy Assistant Secretary for AD/CVD Policy and Negotiations.

Appendix - Issues in Decision Memorandum

Comment 1: Use of Sterling Tools Ltd.'s Financial Statements

Comment 2: Use of Sundram Fasteners Ltd.'s Financial Statements

Comment 3: Wire Rod Surrogate Value

Comment 4 Weighted Average vs. Simple Average for JPC Prices

Comment 5: Surrogate Values for Certain Chemical Factors of Production: Chemical Weekly Pricing Data Versus Indian Import Statistics

Comment 6: Surrogate Values for Brokerage and Handling

Comment 7: Correction of Ministerial Calculation Error

[FR Doc. 2010-12812 Filed 5-26-10; 8:45 am]

BILLING CODE 3510-DS-S